DEPARTMENT OF ENERGY

Notice of Request for Information (RFI) on Supercritical Carbon Dioxide Power Cycles Integrated With Thermal Energy Storage

AGENCY: Office of Energy Efficiency and Renewable Energy, Department of Energy (DOE).

ACTION: Request for Information (RFI).

SUMMARY: The U.S. Department of Energy (DOE) invites public comment on its Request for Information (RFI) number DE-FOA-0002182 regarding Supercritical Carbon Dioxide Power Cycles Integrated with Thermal Energy Storage. The purpose of this RFI is to solicit feedback from industry, academia, research laboratories, government agencies, and other stakeholders on methods to integrate and demonstrate supercritical carbon dioxide power cycles with thermal energy storage that operates in the temperature range between 565 and 670 °C. The focus is on the integration of subsystems at temperatures that can enable near-term commercial deployment.

DATES: Responses to the RFI must be received by 5:00 p.m. EST on December 18, 2019.

ADDRESSES: Interested parties are to submit comments electronically to: SETO.RFI.CSP@ee.doe.gov. Include Supercritical Carbon Dioxide Power Cycles Integrated with Thermal Energy Storage or sCO2 TES Integration, in the subject of the title. Only electronic responses will be accepted. The complete RFI document DE-FOA-0002182 is located at https://eere-exchange.energy.gov/.

FOR FURTHER INFORMATION CONTACT: Questions may be addressed to Rajgopal Vijaykumar at telephone (202) 287-1817 or by email SETO.RFI.CSP@ee.doe.gov. Further instructions can be found in the RFI document posted on EERE Exchange.

SUPPLEMENTARY INFORMATION: This RFI seeks feedback on technologies to integrate and demonstrate advanced supercritical carbon dioxide (sCO2) Brayton power cycles that are indirectly heated via thermal energy storage at a turbine inlet temperature (TIT) range between 550 and 630 °C. This request is focused on accelerating the commercialization of sCO2 power cycles that are appropriate for near-term integration with concentrating solar-thermal power (CSP), at temperatures that do not require significant de-risking of the cost and performance of novel materials. The RFI DE-FOA-0002182 is available at: https://eere-exchange.energy.gov/.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC, on October 21, 2019.
Rebecca Jones-Albertus,
Acting Director, Solar Energy Technologies Office.

[FR Doc. 2019-25022 Filed 11-18-19; 8:45 am]

BILLING CODE 6450-01-P